DEPARTMENT OF HEALTH AND HUMAN SERVICES

Food and Drug Administration

[Docket Nos. 97F-0284, 88F-0182, 98F-0706, 98F-0391, 97F-0170, 92F-0315, 99F-4694, 88F-0340, 95F-0021, 99F-0720, 94F-0290, and 00F-1366]

Withdrawal of Food Additive Petitions Subsequently Converted to Food Contact Notifications

AGENCY: Food and Drug Administration, HHS.

ACTION: Notice.

SUMMARY: The Food and Drug Administration (FDA) is announcing the withdrawal, without prejudice to a future filing, of 12 food additive petitions (FAPs) proposing that the food additive regulations be amended to provide for the safe use of certain new food additives. The petitioners subsequently requested that their petitions be converted to food contact notifications for review under the agency's new food contact notification (FCN) program for food contact substances. The requested uses are now the subjects of effective notifications.

FOR FURTHER INFORMATION CONTACT: Sylvia Dodson, Center for Food Safety and Applied Nutrition (HFS-275), Food and Drug Administration, 5100 Paint Branch Pkwy., College Park, MD 20740, 202-418-3087.

SUPPLEMENTARY INFORMATION: In notices published in the Federal Register, on the dates indicated in table 1 of this document, FDA announced the filing of 12 FAPs. These petitions proposed to amend the food additive regulations in the sections listed in the table to provide for the safe use of the listed substances intended for use in food contact articles. Since publication of these filing notices, the petitioners have requested that their respective petitions be converted to FCNs for review under the agency's new FCN process for food contact substances and that their petitions be withdrawn when the corresponding notifications become effective. These petitions were converted to notifications and subsequently reviewed under the FCN process. The requested uses are now the subjects of effective notifications. The corresponding FAPs are now withdrawn without prejudice to a future filing (21 CFR 171.7).

Table 1.—Food Additive Petitions Subsequently Converted to Food Contact Notifications
FAP No.¹ and Docket No. | FCN No.² | FR Citation and Date | Company | 21 CFR Section/Part | Additive | Use
7B4547, 97F-0284 | 87 | 62 FR 37266, July 11, 1997. | Eastman Chemical Co. | 175.300 | 1,4-cyclohexanedimethanol as a polyhydric alcohol. | In polyester resins intended for coatings in contact with food.
8B4083, 88F-0182 | 106 | 53 FR 23455, June 22, 1988. | Dow Chemical Co. | 176.170 | Styrene-butadiene-acrylonitrile copolymers copolymerized with not more than 10 percent of one or more of the monomers of acrylic acid, fumaric acid, 2-hydroxyethyl acrylate, itaconic acid and menacrylic acid. | As components of paper and paperboard in contact with food.
8B4620, 98F-0706 | 115 | 63 FR 45820, Aug. 27, 1998. | BASF Corp. | 178.3297 | 2,9-bis(3,5-dimethylphenyl)anthra(2,1,9-def:6,5,10-d′e′ f′)diisoquinoline- 1,3,8,10(2H, 9H)-tetrone. (C.I. Pigment Red 149). | As a colorant for all polymers intended for use in contact with food.
8B4595, 98F-0391 | 118 | 63 FR 32672, June 15, 1998. | BASF Corp. | 178.3297 | 2,9-bis[4-(phenylazo)phenyl]anthra[2, 1,9-def:6,5,10-d′e′f′]diisoquinoline-1,3,8,10(2H, 9H)-tetrone. (C.I. Pigment Red 178). | As a colorant for all polymers intended for use in contact with food.
7B4538, 97F-0170 | 123 | 62 FR 23467, Apr. 30, 1997. | Toyo-Morton, Ltd. c/o Keller and Heckman, LLP. | 177.1390 | Polyester-epoxy-urethane adhesive. | As a nonfood contact layer of laminated articles intended for use in contact with food.
2B4337, 92F-0315 | 124 | 57 FR 43740, Sept. 22, 1992. | Fina Oil and Chemical Co. | 177.1640 | Rubber-modified polystyrene resin containing not less than 71 weight percent of polymer units derived from styrene monomer and | In contact with food.
|  |  |  | 178.2010 | octadecyl 3,5-di-tert-butyl-4-hydroxyhydrocinnamate. | As a stabilizer in the rubber-modified polystyrene.
0B4699, 99F-4694 | 131 | 64 FR 61132, Nov. 9, 1999. | Rohm and Haas Co. | 175.105 and 176.170. | 2-methyl-4- isothiazolin-3-one. | As an antimicrobial additive for adhesives, paper additives, and paper coatings that are intended to contact food.
8B4105, 88F-0340 | 146 | 53 FR 43272, Oct. 26, 1988. | Shell Oil Co. | 177.1570 | Poly-1-butene resins and butene/ethylene copolymers containing no more than 6-weight-percent ethylene. | As articles or components of articles intended for food-contact use.
5B4444, 95F-0021 | 151 | 60 FR 7974, Feb. 10, 1995. | M & G Ricerche S.p.A. | 177.1630 | Ethylene terephthalate-isophthalate copolymers prepared with pyromellitic dianhydride such that the finished copolymers contain at least 95 weight percent of polymer units derived from ethylene terephthalate. | In contact with food.
9B4653, 99F-0720 | 166 | 64 FR 16742, Apr. 6, 1999. | Arakawa Chemical Industries, Ltd. c/o Keller and Heckman, LLP. | 178 | Hydrogenated aromatic petroleum hydrocarbon resins. | In blends with polymers intended for contact with food.
4B4427, 94F-0290 | 179 | 59 FR 43847, Aug. 25, 1994. | Eastman Chemical Co. | 177.1315 | Ethylene-1,4-cyclohexylene dimethylene terephthalate copolymers that include 1 to 100 mole percent of repeat units derived from 1,4-cyclohexylene dimethylene terephthalate. | As components of articles for food contact use.
0B4713, 00F-1366 | 220 | 65 FR 41079, July 3, 2000. | Nippon Shokubai c/o Keller and Heckman, LLP. | 177.1520 | Methylmethacrylate-trimethylolpropane trimethacrylate copolymer as an antiblocking agent in linear low-density polyethylene. | Intended for use in contact with food.
¹ Food Additive Petition Number.
² Food Contact Notification Number.

Dated: June 17, 2003.
Laura M. Tarantino
Deputy Director, Office of Food Additive Safety, Center for Food Safety and Applied Nutrition.

[FR Doc. 03-16616 Filed 7-1-03; 8:45 am]

BILLING CODE 4160-01-S